ENVIRONMENTAL PROTECTION AGENCY

[EPA-HQ-OW-2009-0817, FRL-9149-2; EPA ICR No. 2366.01; OMB Control No. 2040-NEW]

Agency Information Collection Activities; Proposed Collection; Comment Request; Stormwater Management Including Discharges From Developed Sites Questionnaires

AGENCY: Environmental Protection Agency (EPA).

ACTION: Notice.

SUMMARY: In compliance with the Paperwork Reduction Act (PRA) (44 U.S.C. 3501 et seq.), this document announces an Information Collection Request (ICR) has been forwarded to the Office of Management and Budget (OMB) for review and approval. This is a request for a new collection. The ICR, which is abstracted below, describes the nature of the information collection and its estimated burden and cost.

DATES: Comments must be submitted on or before June 9, 2010.

ADDRESSES: Submit your comments, referencing Docket ID No. EPA-HQ-OW-2009-0817 to (1) EPA online using http://www.regulations.gov (our preferred method), by e-mail to ow-docket@epa.gov, or by mail to: EPA Docket Center, Environmental Protection Agency, Water Docket, Mailcode 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Jan Matuszko, Engineering and Analysis Division, Office of Water, (4303T), Environmental Protection Agency, 1200 Pennsylvania Ave., NW., Washington, DC 20460; telephone number: 202-566-1035; fax number: 202-566-1053; e-mail address: matuszko.jan@epa.gov or Holly Galavotti, Water Permits Division, (4203M), Environmental Protection Agency, 1200 Pennsylvania Ave., NW., Washington, DC 20460; telephone number: 202-564-1489; fax number: 202-564-6392; e-mail address: galavotti.holly@epa.gov.

SUPPLEMENTARY INFORMATION: EPA has submitted the following ICR to OMB for review and approval according to the procedures prescribed in 5 CFR 1320.12. On October 30, 2009 (74 FR 56191-56193), EPA sought comments on this ICR pursuant to 5 CFR 1320.8(d). EPA received over 80 comments from associations, environmental groups, cities, counties, municipalities, States, universities, State and private transportation departments, and individuals. The topics raised in these comments address both general matters related to the ICR, such as legal authority, recipients, burden, additional data sources, and suggested revisions to specific questions. The comments are summarized in the supporting statement for this ICR. Any additional comments on this proposed ICR should be submitted to EPA and OMB within 30 days of this notice.

EPA has established a public docket for this ICR under Docket ID No. EPA-HQ-OW-2009-0817, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is (202) 566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Stormwater Management Including Discharges from Developed Sites Questionnaires.

ICR numbers: EPA ICR No. 2366.01, OMB Control No. 2040-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In order to evaluate current stormwater management practices, the scope of the current State and local programs, current new and redevelopment projects, and any EPA regulation to control long term stormwater discharges from developed sites, EPA is proposing several data collection activities. Because this regulation could impact many different types of entities, the ICR announced today consists of multiple questionnaire instruments designed to collect information from: Owners and developers of residential, commercial, industrial, and non-commercial sites; owners and operators of Municipal Separate Storm Sewer Systems (MS4s) (including transportation-related facilities such as State, county, and local departments of transportation that own/operate roadway systems); and States and EPA regions which are NPDES permitting authorities.

EPA is distributing the Owner/Developer Questionnaires to collect information on development and redevelopment projects and long term stormwater discharge controls and/or BMPs installed at these projects. EPA is particularly interested in obtaining information on those controls/BMPs that promote onsite stormwater retention. This information will be used to assist EPA in evaluating various regulatory options and determining the project level and nationwide costs and pollutant reductions associated with regulating long-term stormwater discharges associated from newly developed and redeveloped sites. Additionally, EPA will collect financial data to assess the economic impact of the proposed rulemaking.

The MS4, Transportation, and NPDES Permitting Authority Questionnaires will collect information on the scope of current State, county and local stormwater programs and the stormwater management practices or standards that are currently required for controlling long term stormwater discharges from developed sites. This includes stormwater program implementation such as jurisdiction, implementation, oversight, enforcement, maintenance and monitoring as well as program requirements such as retrofit of existing development and performance standards, design criteria, or retention practices for long term stormwater discharge control at newly and redeveloped sites. Additionally, EPA will collect associated budget and funding information. EPA intends to use this information to assess existing conditions, regulatory options, and the costs and impact to MS4s, and NPDES Permitting Authorities that may result from a regulation.

Burden Statement: The annual public reporting and recordkeeping burden for this collection of information is estimated to average 30 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR support statement contained in the docket provides a detailed explanation of the Agency's estimate, which is only briefly summarized here:

Estimated total number of potential respondents: 5,516.

Frequency of response: Once.

Estimated total annual burden hours: 167,669.

Estimated total annual costs: $7,009,179. This includes an estimated burden cost of $6,971,692 for labor and $37,487 for operations and maintenance.

Dated: May 3, 2010.
John Moses,
Director, Collection Strategies Division.

[FR Doc. 2010-10995 Filed 5-7-10; 8:45 am]

BILLING CODE 6560-50-P